DEPARTMENT OF THE INTERIOR

Bureau of Land Management

[NV-050-5853-ES; N-82423; 8-08807; TAS-14X5232]

Notice of Realty Action: Lease/Conveyance for Recreation and Public Purposes in Clark County, NV

AGENCY: Bureau of Land Management, Interior.

ACTION: Notice of Realty Action.

SUMMARY: The Bureau of Land Management (BLM) has examined and found suitable for classification for lease and subsequent conveyance under the provisions of the Recreation and Public Purposes (R&PP) Act, as amended, approximately 670 acres of public land in Clark County, Nevada. The City of Mesquite proposes to use the land for a regional park.

DATES: Interested parties may submit comments regarding the proposed lease/conveyance or classification of the lands until January 14, 2008.

ADDRESSES: Mail written comments to BLM Field Manager, Las Vegas Field Office, 4701 N. Torrey Pines Drive, Las Vegas, NV 89130-2301.

FOR FURTHER INFORMATION CONTACT: Kim Liebhauser, (702) 515-5088.

SUPPLEMENTARY INFORMATION: In accordance with Section 7 of the Taylor Grazing Act, (43 U.S.C. 315(f)), and Executive Order No. 6910, the following described land in Clark County, Nevada, has been examined and found suitable for classification for lease and subsequent conveyance under the provisions of the R&PP Act, as amended, (43 U.S.C. 869 et seq):

Mount Diablo Meridian, Nevada

T. 13 S., R. 70 E.,

Sec. 2, portion of E½NE¼, portion of SE¼SW¼, portion of SE¼.

Sec. 11, E½NE¼, portion of W½SE¼, portion of E½NW¼, portion of SW¼, portion of W½SE¼.

Sec. 14, W½NE¼, E½NW¼, portion of NW¼NW¼, SW¼NW¼.

Sec. 15, portion of E½NE¼.

The area described contains 670.16 acres, more or less.

Note: This description will be replaced by a lot description upon final approval of the official plat of survey.

The overall park master plan consists of 670 acres, which will be developed as a multi-use regional park. Approximately 135 acres will be developed as intensive use areas supporting a diverse range of outdoor recreational activities. Trails and open space will be located in strategic areas and used to link connections between adjacent public and private land, including intensively developed areas immediately adjacent to the regional park. Planned development for this site includes:

135 acres of intensively developed areas, including a tennis complex, an amphitheater with shared parking for soccer and turf areas, group picnic areas with adventure playgrounds, a botanical garden, sand volleyball courts and restroom facilities;

425 acres of trails and open space, including seven miles of trail with three trailheads;

19 acres of open play (turf) areas;

46 acres of multiple use fields for soccer and associated sports; and

45 acres for a baseball and softball field complex.

Additional detailed information pertaining to this application, Plan of Development, and site plans are in case file N-82343, which is located in the BLM Las Vegas Field Office.

Cities are a common applicant under the public purposes provision of the R&PP Act. The City of Mesquite is a political subdivision of the State of Nevada and is therefore a qualified applicant under the Act. The land is not required for any Federal purpose. The lease/conveyance is consistent with the BLM Las Vegas Resource Management Plan, dated October 5, 1998, and would be in the public interest.

The lease and subsequent conveyance, when issued, will be subject to the provisions of the R&PP Act and applicable regulations of the Secretary of the Interior, and will contain the following reservations to the United States:

1. A right-of-way thereon for ditches or canals constructed by the authority of the United States, Act of August 30, 1890 (43 U.S.C. 945).

2. All minerals shall be reserved to the United States, together with the right to prospect for, mine and remove such deposits from the same under applicable law and such regulations as the Secretary of the Interior may prescribe. The patent will be subject to:

1. All valid existing rights;

2. A Right-of-Way N-55066 in favor of Overton Power District, its successors or assigns, for roads and power line purposes, pursuant to the Act of October 21, 1976 (43 U.S.C. 1761); and

3. A Right-of-Way N-80466 in favor of Virgin Valley Water District, its successors or assigns, for water tank, water lines and road purposes, pursuant to the Act of October 21, 1976 (43 U.S.C. 1761).

On November 28, 2007, the above described land will be segregated from all other forms of appropriation under the public land laws, including the general mining laws, except for lease and subsequent conveyance under the R&PP Act, leasing under the mineral leasing laws, and disposals under the mineral material disposal laws.

Comments, including names and addresses of respondents, will be available for public review.

Interested parties may submit comments involving the suitability of the land for park sites. Comments on the classification are restricted to whether the land is physically suitable for the proposal, whether the use will maximize the future use or uses of the land, whether the use is consistent with local planning and zoning, or if the use is consistent with State and Federal programs.

Interested parties may submit comments regarding the specific use proposed in the application and plan of development, whether the BLM followed proper administrative procedures in reaching the decision to lease/convey under the R&PP Act, or any other factor not directly related to the suitability of the land for public park sites.

Only written comments submitted by postal service or overnight mail to the Field Manager, BLM Las Vegas Field Office will be considered properly filed. Electronic mail, facsimile, or telephone comments will not be considered properly filed. Before including your address, phone number, e-mail address, or other personal identifying information in your comment, you should be aware that your entire comment—including your personal identifying information—may be made publicly available at any time. While you can ask us in your comment to withhold your personal identifying information from public review, we cannot guarantee that we will be able to do so. Any adverse comments will be reviewed by the BLM Nevada State Director. In the absence of any adverse comments, the classification of the land described in this notice will become effective on January 28, 2008. The lands will not be available for lease/conveyance until after the classification becomes effective.

(Authority: 43 CFR 2741.5)

Dated: November 16, 2007.
Mark R. Chatterton,
Assistant Field Manager, Non-Renewable Resources, Las Vegas, Nevada.

[FR Doc. E7-23140 Filed 11-27-07; 8:45 am]

BILLING CODE 4310-HC-P